DEPARTMENT OF DEFENSE

Office of the Secretary

[Docket ID: DoD-2022-OS-0134]

Proposed Collection; Comment Request

AGENCY: Office of the Under Secretary of Defense for Personnel and Readiness (OUSD(P&R)), Department of Defense (DoD).

ACTION: 60-day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 30, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense State Liaison Office, 4800 Mark Center Drive, Suite 14E08, Alexandria, VA 22350, Jeremy Hinton, (703)-409-8878

SUPPLEMENTARY INFORMATION:

Title; Associated Form; and OMB Number: Evaluation of State Implementation of Supportive Policies to Improve Educational Experiences and Achievement for K-12 Military Children (SPEAK Military Children); OMB Control Number 0704-SPEK.

Needs and Uses: The purpose of this study is to investigate the implementation of four specific initiatives (i.e., Advance Enrollment, Military Student Identifier, Purple Star Schools [or similar efforts], and the Interstate Compact on Educational Opportunity for Military Children) and other policies intended to support military-connected students' (i.e., kindergarten through 12th grade) educational success (e.g., academic performance, social-emotional development and well-being).

Each of these groups of people may have different perspectives on the implementation of the abovementioned four initiatives. Since little is known about the implementation or effectiveness of these initiatives, understanding different stakeholder's perspectives is critical. With a better understanding of how the programs and policies are being implemented and stakeholders' perceptions of the programs and policies, the Defense-State Liaison Office will be able to make informed recommendations for improvements in federal and state policies intended to support children in military families.

Affected Public: Individuals or households.

Annual Burden Hours: 168.75.

Number of Respondents: 225.

Responses per Respondent: 1.

Annual Responses: 225.

Average Burden per Response: 45 minutes.

Frequency: On occasion

Dated: November 25, 2022.
Aaron T. Siegel,
Alternate OSD Federal Register Liaison Officer, Department of Defense.

[FR Doc. 2022-26105 Filed 11-29-22; 8:45 am]

BILLING CODE 5001-06-P